DEPARTMENT OF HEALTH AND HUMAN SERVICES

National Institutes of Health

Proposed Collection; Comment Request; The Atherosclerosis Risk in Communities Study (ARIC)

SUMMARY: In compliance with the requirement of Section 3506(c)(2)(A) of the Paperwork Reduction Act of 1995, for opportunity for public comment on proposed data collection projects, the National Heart, Lung, and Blood Institute (NHLBI), the National Institutes of Health (NIH) will publish periodic summaries of proposed projects to be submitted to the Office of Management and Budget (OMB) for review and approval.

Proposed Collection: Title: The Atherosclerosis Risk in Communities Study (ARIC). Type of Information Collection Request: Revision of a currently approved collection (OMB No. 0925-0281). Need and Use of Information Collection: This project involves annual follow-up by telephone of participants in the ARIC study, review of their medical records, and interviews with doctors and family to identify disease occurrence. Interviewers will contact doctors and hospitals to ascertain participants' cardiovascular events. Information gathered will be used to further describe the risk factors, occurrence rates, and consequences of cardiovascular disease in middle aged and older men and women. Frequency of Response: The participants will be contacted annually. Affected Public: Individuals or households; Businesses or other for profit; Small businesses or organizations. Type of Respondents: Individuals or households; doctors and staff of hospitals and nursing homes. The annual reporting burden is as follows: Estimated Number of Respondents: 11,992; Estimated Number of Responses per Respondent: 1.0; Average Burden Hours Per Response: 0.2399; and Estimated Total Annual Burden Hours Requested: 2,877.4. The annualized cost to respondents is estimated at $54,583, assuming respondents' time at the rate of $17.0 per hour and physician time at the rate of $75 per hour. There are no Capital Costs to report. There are no Operating or Maintenance Costs to report.

Estimate of Annual Hour Burden
[2010-2013]
Type of response | Number of respondents | Frequency of response | Average hours per response | Annual burden hours
Participant Follow-up | 10,735 | 1.0 | 0.2500 | 2,683.8
Physician (or coroner) (for CHD) ¹ | 491 | 1.0 | 0.1667 | 81.8
Physician (for heart failure) ¹ | 190 | 1.0 | 0.0833 | 15.8
Participant's next-of-kin ¹ | 575 | 1.0 | 0.1667 | 95.9
Total | 11,992 | 1.0 | 0.2399 | 2,877.4
¹ Annual burden is placed on doctors, hospitals, and respondent relatives/informants through requests for information which will help in the compilation of the number and nature of new fatal and nonfatal events.

Request for Comments: Written comments and/or suggestions from the public and affected agencies are invited on one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

FOR FURTHER INFORMATION CONTACT: To request more information on the proposed project or to obtain a copy of the data collection plans and instruments, contact Dr. Hanyu Ni, Project Officer, NIH, NHLBI, 6701 Rockledge Drive, MSC 7934, Bethesda, MD 20892-7934, or call non-toll-free number (301) 435-0448 or e-mail your request, including your address to: NiHanyu@nhlbi.nih.gov.

Comments Due Date: Comments regarding this information collection are best assured of having their full effect if received within 60 days of the date of this publication.

Dated: October 29, 2009.
Michael Lauer,
Director, Division of Cardiovascular Sciences, National Institutes of Health.
Dated: November 4, 2009.
Suzanne Freeman,
Chief, FOIA, NHLBI, National Institutes of Health.

[FR Doc. E9-27439 Filed 11-13-09; 8:45 am]

BILLING CODE 4140-01-P